DEPARTMENT OF COMMERCE

International Trade Administration

[A-570-831]

Fresh Garlic from the People's Republic of China: Extension of Time Limit for the Final Results of New Shipper Review

AGENCY: Import Administration, International Trade Administration, Department of Commerce.

EFFECTIVE DATE: July 6, 2010.

FOR FURTHER INFORMATION CONTACT: Lingjun Wang, AD/CVD Operations, Office 6, Import Administration, International Trade Administration, U.S. Department of Commerce, 14th Street and Constitution Avenue, NW, Washington, DC 20230; telephone: (202) 482-2316.

Background

On April 27, 2010, the Department of Commerce (the Department) issued the preliminary results of the new shipper review of fresh garlic from the People's Republic of China for Qingdao Sea-line International Trade Co. Ltd. (Qingdao Sea-line), covering the period of review of November 1, 2008 through April 30, 2009. See Fresh Garlic from the People's Republic of China: Preliminary Results of New Shipper Review, 75 FR 24578 (May 5, 2010).

Statutory Time Limits

Section 751(a)(2)(B)(iv) of the Tariff Act of 1930, as amended (the Act), and 19 CFR 351.214(i)(1), provides that the Department will issue the preliminary results of a new shipper review of an antidumping duty order within 180 days after the day on which the review was initiated, and final results of review within 90 days after the date on which the preliminary results were issued. However, if the Secretary concludes that a new shipper review is extraordinarily complicated, the Secretary may extend the 180-day period to 300 days, and may extend the 90- day period to 150 days. See 19 CFR 351.214(i)(2).

Extension of Time Limit for Final Results

The Department determines that this new shipper review involves extraordinarily complicated methodological issues, including the continued evaluation of the UbonaU UfideU nature of the company's sales. Therefore, in accordance with section 751(a)(2)(B)(iv) of the Act and 19 CFR 351.214(i)(2), the Department is extending the time limit for the final results from 90 days to 150 days. Therefore the final results will now be due no later than September 24, 2010.

We are issuing and publishing this notice in accordance with sections 751(a)(2)(B)(iv) and 777(i) of the Act.

Dated: June 29, 2010.
John M. Andersen,
Acting Deputy Assistant Secretary for Antidumping and Countervailing Duty Operations.

[FR Doc. 2010-16355 Filed 7-2-10; 8:45 am]

BILLING CODE 3510-DS-S